DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Number, and OMB Number: Application for Air Force ROTC Membership; AFOATS Form 20; OMB Number 0701-0105.

Type of Request: Extension.

Number of Respondents: 12,000.

Responses Per Respondent: 1.

Annual Responses: 12,000.

Average Burden Per Response: 20 minutes.

Annual Burden Hours: 4,000.

Needs and Uses: The information collection is used to obtain the information needed by HQ, AFROTC and the AFROTC Detachment on which to base a decision of acceptance or non-acceptance to be a member of AFROTC. Respondents are college students who apply for membership in Air Force ROTC. The collected data is used to determine the eligibility to enter the ROTC program and if accepted, determine the enrollment status of the applicant within the program. Upon acceptance into the program, the information is used to establish personal records for Air Force ROTC cadets.

Affected Public: Individuals or Households.

Frequency: On Occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: March 2, 2001.
Patricia L. Toppings,
Alternate OSD Federal Register Liaison Officer, Department of Defense.

[FR Doc. 01-5688 Filed 3-7-01; 8:45 am]

BILLING CODE 5001-10-M